DEPARTMENT OF TRANSPORTATION

National Highway Traffic Safety Administration

[U.S. DOT Docket No. NHTSA-2016-0121]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before February 6, 2017.

ADDRESSES: You may submit comments identified by DOT Docket ID Number NHTSA-2016-0121 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Brian Chodrow, Office of Safety Programs (NPD-210), National Highway Traffic Safety Administration, 1200 New Jersey Avenue SE., W44-230, Washington, DC 20590. Mr. Chodrow's phone number is 202-366-9765 and his email address is Brian.Chodrow@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title: Education on Proper Use of Safety Belts on School Buses.

Type of Request: New information collection requirement.

OMB Clearance Number: None.

Form Number: None.

Requested Expiration Date of Approval: 3 years from date of approval.

Summary of the Collection of Information: The National Highway Traffic Safety Administration (NHTSA) proposes to conduct discussions and informal interviews to identify school districts who have implemented seat belts on school buses, and to gather information to understand the states' and local agencies' decisions to implement seat belts on school buses and the funding mechanisms that are used to pay for seat belt installation. These discussions will be held via telephone, email, and/or in-person throughout the course of the project. The findings will be used to develop a model policy and a best practices guide to assist jurisdictions that are considering the use of seat belts on school buses.

NHTSA also proposes to conduct a web-based survey to gather information about bus driver distraction as related to student behavior and seat belt use to see if the use of seat belts has influenced disruptive behavior. NHTSA expects to distribute the survey to at least one bus driver in each of the school districts that participate in the aforementioned interviews, but hopes to collect surveys from more than one driver in each of those school districts. The survey will not take more than 10-15 minutes to complete. Follow-up telephone discussions may also be conducted depending on the interest of respondents in providing additional information.

Description of the Need for the Information and Proposed Use of the Information—On average, from 2004-2013, each year eight (8) school-age pedestrians killed were struck by school transportation vehicles (school buses and non-school-bus vehicles used as school buses), and 4 by other vehicles involved in school-bus-related crashes. During this same time period, on average each year six school age children are killed in collisions while riding in a school bus. By focusing on safety both in and around the school bus, we could envision a future where there are zero school transportation fatalities.

There has generally been resistance against installing seat belts on school buses based on a variety of reasons including the existing safety features of school buses compared to other vehicles (i.e. taller and heavier vehicles, padded and high seat backs, etc.), need for drivers or aides to enforce wearing seat belts, cost, and other factors. However, it is commonly known that the use of seat belts has improved safety for other types of vehicles. Thus, on November 8, 2015, NHTSA Administrator Dr. Mark Rosekind stated, “NHTSA has not always spoken with a clear voice on the issue of seat belts on school buses. So let me clear up any ambiguity now: The position of the National Highway Traffic Safety Administration is that seat belts save lives. That is true whether in a passenger car or in a big yellow bus. And saving lives is what we are about. So NHTSA's policy is that every child on every school bus should have a three-point seat belt. NHTSA will seek to use all the tools at our disposal to help achieve that goal, and today I want to launch a nationwide effort to get us there.”

The current project seeks to understand the decisions that states and local agencies use when deciding to implement seat belts on school buses and the funding mechanisms that are used to pay for seat belt installation. From there, model policy and a best practices guide will be developed to assist jurisdictions that are considering the use of seat belts on school buses. Finally, the project will also obtain data related to the role of distraction and whether seat belts aid in managing behavior on school buses. The project will culminate with a final report to explain the results and outcomes from the project's activities.

Description of the Likely Respondents (Including Estimated Number, and Proposed Frequency of Response to the Collection of Information)—The first step of this process is to identify school districts who have implemented, or are planning to implement, seat belts on their school buses. NHTSA will reach out to current partners and connections including contacts in the National Association of State Directors of Pupil Transportation Services (NASDPTS), the National Association of Pupil Transportation (NAPT), the National School Transportation Association (NSTA), American School Bus Council (ASBC), school bus manufacturers and dealers, as well as any existing contacts in transportation departments, in order to help identify school districts. NHTSA anticipates contacting approximately 100 individuals across the country to ask general questions related to seat belt use in their jurisdictions. NHTSA will hold general discussions with these partners and contacts via telephone, email, and/or in person. As the goal of these conversations is to identify school districts that have implemented, or are considering implementing, seat belts on school buses, it is expected that these conversations will take no longer than 5 minutes. To the extent possible, NHTSA will also identify, in coordination with their partners, an appropriate contact(s) in each school district.

The next step, after school districts have been identified, is to reach out to these school districts who have agreed to provide NHTSA with more information and to gather information to understand the states' and local agencies' decisions to implement seat belts on school buses and the funding mechanisms that are used to pay for seat belt installation. Informational interviews will be conducted with State directors of pupil transportation and local school district professionals to identify policy components that influence seat belt acquisition and use. Prior to reaching out to any of the school districts, NHTSA will contact the NHTSA Regional Administrators to inform them of the school districts that NHTSA (through their contractor) intends to contact within their region. The process will then commence with introduction emails that NHTSA will send to the identified contact in each school district. The email will provide a brief overview of the project and discussion/interview goals, and will contain two attachments: (1) An introduction letter from NHTSA describing the goals of the project and interview process, and explaining how the information that they provide will be incorporated into the project and report, and (2) a list of discussion topics and questions. Although specific interview questions will be developed to keep the discussion on track as needed, it is expected that the actual interviews will occur as more of a fluid, conversational dialogue rather than a structured interview. NHTSA will follow up with each contact via telephone within 1-2 weeks of sending the email. During this call, NHTSA (through their contractor) will either work with the contact to schedule a time to conduct the interview, or will conduct the interview on the spot if preferred by the contact. In some cases, the necessary information may be retrieved through a one-time telephone or in-person discussion, while in other cases discussions may continue via telephone and email as an on-going discussion throughout the course of the project as school districts think of more information to provide or if they provide additional contacts to follow up with in their district. NHTSA is seeking to gather as much information as the school districts are willing to provide, and frequency of response and discussion will be driven by how involved the school district would like to be in the conversation. It is anticipated that the more detailed discussions will be held with approximately 25 individuals for a collective total of 100 hours, or an average of 4 hours per individual over an extended period.

Finally, NHTSA will conduct a survey to gather information about bus driver distraction as related to student behavior and seat belt use to see if the use of seat belts has influenced disruptive behavior. The potential respondents would include bus drivers from school districts who have implemented seat belts. The survey will be web-based and should take no longer than 10-15 minutes to complete. NHTSA expects to distribute the survey to at least one bus driver in each of the school districts that participate in the aforementioned interviews, but hopes to collect surveys from more than one driver in each of those school districts. NHTSA will share the link to the survey with their existing contact(s) within that school district, and will request that they distribute the survey to the appropriate bus drivers within their school district. Follow-up discussions may also be conducted via telephone or email depending on the interest of respondents in providing additional information that may not have been captured by the survey.

Throughout the project, the privacy of all participants will be protected. The Model Policy and Best Practices Guide, or any other reports developed as a result of this data collection effort, will not identify any individuals by name. School districts may be identified, but only if permission is given to NHTSA by the school district. Additionally, any school district identified in the Model Policy and Best Practices will be given the opportunity to review and edit any text referring directly to their school district.

The online bus driver survey results will be password protected and access will only be given to team members who have been authorized by the Project Manager (principal investigators and research assistants). The survey data will be exported to an Excel® file and stored in a SharePoint site folder that is also only visible to those who have been authorized by the Project Manager. The research team will check the data file as soon as it is exported to the secure SharePoint folder to ensure that no personally identifiable information (e.g. bus driver name or email address) is included. Though survey respondents will be asked to indicate their school district, they will not be required to provide their name or contact information unless they wish to provide additional information to the project team. Any personally identifiable information that is provided will be kept separate from the data collected.

Estimate of the Total Annual Reporting and Record Keeping Burden Resulting from the Collection of Information—NHTSA estimates that the total respondent burden for this data collection would be 133.3 hours.

The initial discussions would take approximately 5 minutes with 100 people for a total of 8.3 hours. The detailed discussions with school districts who have agreed to participate with the project will take place with a commitment of an average of 4 hours with 25 people for a total of 100 hours. The bus driver survey would take 15 minutes with approximately 100 people for a total of 25 hours.

Authority: 44 U.S.C. Section 3506(c)(2)(A).

Dated: December 2, 2016.
Jeff Michael,
Associate Administrator, Research and Program Development.

[FR Doc. 2016-29320 Filed 12-6-16; 8:45 am]

BILLING CODE 4910-59-P